DEPARTMENT OF TRANSPORTATION

Federal Railroad Administration

[Docket Number FRA-2012-0022]

Petition for Waiver of Compliance

In accordance with Part 211 of Title 49 Code of Federal Regulations (CFR), this document provides the public notice that by a document dated January 6, 2012, the Cass Scenic Railroad State Park (CASS) has petitioned the Federal Railroad Administration (FRA) for a waiver of compliance from certain provisions of the Federal railroad safety regulations contained at 49 CFR. FRA assigned the petition Docket Number FRA-2012-0022.

Specifically, CASS seeks a waiver of compliance for five freight cars from 49 CFR 215.303, which requires stenciling on restricted freight cars; and 49 CFR 231.1(a)3(i), which requires that “[t]he hand brake shall be so located that it can be safely operated while car is in motion.” In this same docket, CASS was previously granted a Special Approval for these same five overage cars, permitting them to continue in service beyond 50 years from the date of construction in accordance with 49 CFR 215.203(c).

CASS stated that two of the five cars in this petition were built as 40-foot steel frame cars to carry logs. Their exact ages are unknown but they are thought to have been constructed in the 1940s. The third car is a 40-foot flatcar built in the 1950s. The fourth car is a 40-foot tank car built in the 1950s. The fifth car is a 40-foot hopper car built in 1958. The hand brakes on these five cars cannot be used while the cars are in motion. The hand brakes can only be manually applied when the cars are at rest, using a ratchet lever at the end of the frame.

CASS stated that there are occasions where they used these cars in special charter trains for photographic purposes only. There are usually two or three such charter trains operated each year. Passengers are not carried on the cars or on the trains in which the cars are operated. The cars subject to this petition do not exceed a speed of 10 mph.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov/. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by July 5, 2012 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78) or online at http://www.dot.gov/privacy.html.

Issued in Washington, DC, on May 10, 2012.
Ron Hynes,
Acting Deputy Associate Administrator for Regulatory and Legislative Operations.

[FR Doc. 2012-12294 Filed 5-18-12; 8:45 am]

BILLING CODE 4910-06-P